DEPARTMENT OF ENERGY

Federal Energy Regulatory Commission

[Docket No. AD05-13-000]

Joint Boards on Security Constrained Economic Dispatch; Supplemental Notice of Second West Joint Board Meeting

February 10, 2006.

On January 6, 2006, the Commission announced that it planned to hold further joint board meetings and that these meetings would take place at the Hyatt Regency on Capitol Hill, 400 New Jersey Avenue, NW., in Washington, DC. Take notice that the joint board meeting for the West region is scheduled to take place on Monday, February 13, 2006, from 9:45 a.m. to 12:15 p.m. (EST) in the Yorktown Room.

These meetings are held pursuant to section 1298 of the Energy Policy Act of 2005, Pub. L. 109-58, § 1298, 119 Stat. 594, 986 (2005). Section 1298 adds section 223 to the Federal Power Act, 16 U.S.C. 824 et seq. (2000), requiring the Commission to convene joint boards on a regional basis pursuant to FPA section 209 “to study the issue of security constrained economic dispatch for the various market regions,” “to consider issues relevant to what constitutes ‘security constrained economic dispatch' and how such a mode of operating * * * affects or enhances the reliability and affordability of service,” and “to make recommendations to the Commission.”

Take further notice that attached are: (1) An agenda for the meeting, (2) a draft study previously circulated to the board members, and (3) recommendations to be considered by the board.

Take further notice that the following changes have taken place to the West Joint Board membership: Ms. Rolayne Ailts Wiest was replaced by Commissioner Dustin (Dusty) Johnson of the South Dakota Public Utilities Commission, and Chairman Paul Hudson was replaced by Commissioner Barry Smitherman of the Public Utility Commission of Texas. A complete and updated list of board members is available at http://www.ferc.gov.

For more information about the meeting, please contact Sarah McKinley at 202-502-8004 or sarah.mckinley@ferc.gov.

Magalie R. Salas,
Secretary.

[FR Doc. E6-2275 Filed 2-16-06; 8:45 am]

BILLING CODE 6717-01-P